DEPARTMENT OF COMMERCE

National Oceanic and Atmospheric Administration

Proposed Information Collection; Comment Request; Transshipment Requirements Under the WCPFC

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 3, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Tom Graham, Pacific Islands Regional Office, (808) 725-5032 or tom.graham@noaa.gov.

SUPPLEMENTARY INFORMATION:

I. Abstract

This request is for an extension of a currently approved information collection. National Marine Fisheries Service (NMFS) has issued regulations under authority of the Western and Central Pacific Fisheries Convention Implementation Act (WCPFCIA; 16 U.S.C. 6901 et seq.) to carry out the obligations of the United States under the Convention on the Conservation and Management of Highly Migratory Fish Stocks in the Western and Central Pacific Ocean (Commission). The regulations include requirements for the owners and operators of U.S. vessels to: (1) Complete and submit a Pacific Transshipment Declaration form for each transshipment that takes place in the Convention Area of highly migratory species caught in the Convention Area, (2) submit notice to the WCPFC Executive Director containing specific information at least 36 hours prior to each transshipment on the high seas in the Convention Area, (3) in the event that a vessel anticipates a transshipment where an observer is required, provide notice to NMFS at least 72 hours before leaving port of the need for an observer, (4) submit a notice to the WCPFC Executive Director containing specific information six hours prior to entry or exit of the Eastern High Seas Special Management Area, (5) complete and submit a U.S. Purse Seine Discard form within 48 hours after any discard, and (6) submit a FAD Report within 24 hours at the end of each day that the vessel is on a fishing trip in the Convention Area.

The information collected from these requirements is used by NOAA and the Commission to help ensure compliance with domestic laws and the Commission's conservation and management measures, and are necessary in order for the United States to satisfy its obligations under the Convention.

II. Method of Collection

Respondents must submit some of the information by mail or in person via paper forms, and must submit other information electronically by fax or email.

III. Data

OMB Control Number: 0648-0649.

Form Number(s): None.

Type of Review: Regular submission (extension of a currently approved information collection).

Affected Public: Business or other for-profit organizations.

Estimated Number of Respondents: 211.

Estimated Time per Response: Transshipment Report: 60 minutes; Notice for Transshipment: 15 minutes; Pre-trip Notification for Observer Placement: 1 minute; Notice of Entry or Exit for Eastern SMA: 15 minutes; Purse Seine Discard Report: 30 minutes; Daily FAD Report: 10 minutes.

Estimated Total Annual Burden Hours: 2,260.

Estimated Total Annual Cost to Public: $11,116 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments are also requested on possible modifications to both the Pacific Transshipment Declaration form and the U.S. Purse Seine Discard form in order to enhance the convenience and usability of the forms. Recent versions of both forms can be found in the WCPFC Transshipping, Bunkering, Reporting and Purse Seine Discard Compliance Guide at http://www.fpir.noaa.gov/Library/IFD/BA85-compliance-guide-IRC.pdf.

Comments submitted in response to this notice will be summarized and/or included in the request for OMB approval of this information collection; they also will become a matter of public record.

Dated: May 28, 2015.
Sarah Brabson,
NOAA PRA Clearance Officer.

[FR Doc. 2015-13338 Filed 6-1-15; 8:45 am]

BILLING CODE 3510-22-P